DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by MSHA's Office of Standards, Regulations, and Variances on or before December 14, 2016.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2016-028-C.

Petitioner: River View Coal, LLC, 835 State Route 1179, Waverly, Kentucky 42462.

Mine: River View Mine, MSHA I.D. No. 15-19374, located in Union County, Kentucky.

Regulation Affected: 30 CFR 75.500(d) (Permissible electric equipment).

Modification Request: The petitioner requests a modification of the existing standard to permit the use of nonpermissible electronic testing or diagnostic equipment inby the last open crosscut. The petitioner states that:

(1) Nonpermissible electronic testing and diagnostic equipment to be used includes: Laptop computers, oscilloscopes, vibration analysis machines, cable fault detectors, point temperature and distance probes, infrared temperature devices, insulation testers (meggers), voltage, current, resistance meters and power testers, electronic tachometers, signal analyzer devices, and ultrasonic measuring devices. Other testing and diagnostic equipment may be used if approved in advance by the MSHA District Manager.

(2) All nonpermissible testing and diagnostic equipment used in or inby the last open crosscut will be examined by a qualified person (as defined in 30 CFR 75.153) prior to use to ensure the equipment is being maintained in a safe operating condition. The examination results will be recorded weekly in the examination book and will be made available to MSHA and the miners at the mine.

(3) A qualified person as defined in existing 30 CFR 75.151 will continuously monitor for methane immediately before and during the use of nonpermissible electronic testing and diagnostic equipment in or inby the last open crosscut.

(4) Nonpermissible electronic testing and diagnostic equipment will not be used if methane is detected in concentrations at or above 1.0 percent. When 1.0 percent or more methane is detected while the nonpermissible electronic equipment is being used, the equipment will be deenergized immediately and withdrawn outby the last open crosscut.

(5) All hand-held methane detectors will be MSHA-approved and maintained in permissible and proper operating condition as defined in 30 CFR 75.320.

(6) Except for time necessary to troubleshoot under actual mining conditions, coal production in the section will cease. However, coal may remain in or on the equipment to test and diagnose the equipment under “load.”

(7) All electronic testing and diagnostic equipment will be used in accordance with the manufacturer's recommendations.

(8) Qualified personnel who use electronic testing and diagnostic equipment will be properly trained to recognize the hazards and limitations associated with use of the equipment.

The petitioner asserts that under the terms and conditions of the petition for modification, the use of nonpermissible electronic testing and diagnostic equipment will at all times guarantee no less than the same measure of protection afforded by the existing standard.

Docket Number: M-2016-029-C.

Petitioner: River View Coal, LLC, 835 State Route 1179, Waverly, Kentucky 42462.

Mine: River View Mine, MSHA I.D. No. 15-19374, located in Union County, Kentucky.

Regulation Affected: 30 CFR 75.507-1(a) (Electric equipment other than power-connection points; outby the last open crosscut; return air; permissibility requirements).

Modification Request: The petitioner requests a modification of the existing standard to permit the use of nonpermissible electronic testing or diagnostic equipment in return air outby the last open crosscut. The petitioner states that:

(1) Nonpermissible electronic testing and diagnostic equipment to be used includes: Laptop computers, oscilloscopes, vibration analysis machines, cable fault detectors, point temperature and distance probes, infrared temperature devices, insulation testers (meggers), voltage, current, resistance meters and power testers, electronic tachometers, signal analyzer devices, and ultrasonic measuring devices. Other testing and diagnostic equipment may be used if approved in advance by the MSHA District Manager.

(2) All nonpermissible testing and diagnostic equipment used in return air outby the last open crosscut will be examined by a qualified person (as defined in 30 CFR 75.153) prior to use to ensure the equipment is being maintained in a safe operating condition. The examination results will be recorded weekly in the examination book and will be made available to MSHA and the miners at the mine.

(3) A qualified person as defined in existing 30 CFR 75.151 will continuously monitor for methane immediately before and during the use of nonpermissible electronic testing and diagnostic equipment in return air outby the last open crosscut.

(4) Nonpermissible electronic testing and diagnostic equipment will not be used if methane is detected in concentrations at or above 1.0 percent. When 1.0 percent or more methane is detected while the nonpermissible electronic equipment is being used, the equipment will be deenergized immediately and withdrawn from the return air outby the last open crosscut.

(5) All hand-held methane detectors will be MSHA-approved and maintained in permissible and proper operating condition as defined in 30 CFR 75.320.

(6) All electronic testing and diagnostic equipment will be used in accordance with the manufacturer's recommendations.

(7) Qualified personnel who use electronic testing and diagnostic equipment will be properly trained to recognize the hazards and limitations associated with use of the equipment.

The petitioner asserts that under the terms and conditions of the petition for modification, the use of nonpermissible electronic testing and diagnostic equipment will at all times guarantee no less than the same measure of protection afforded by the existing standard.

Docket Number: M-2016-030-C.

Petitioner: Pennyrile Energy, LLC, 7386 State Route 593, Calhoun, Kentucky 42327.

Mine: Riveredge Mine, MSHA I.D. No. 15-19424, located in Mclean County, Kentucky.

Regulation Affected: 30 CFR 75.313(c)(2) (Main mine fan stoppage with persons underground).

Modification Request: The petitioner requests a modification of the existing standard to prevent excessive levels of water from building up in the mine in the event of a long term electrical power outage due to uncontrollable circumstances. The petitioner states that:

(1) The mine has water that comes in continuously from the slope and would build up to dangerous levels if not maintained properly in a power outage. The only deviation to the standard would be to power the main sump pump with a generator through a long-term electrical outage. This electrical power would not need to be used when miners are underground and would be removed after restoration of power to the main fan and not switch back to regular power until an examination of the area is conducted. This could cause a diminution of safety to the miners when returning underground after a long-term power outage because of water levels reaching the mine roof causing unstable roof conditions. Water entering some of the main electrical substations and high voltage power feeds could cause an electrical explosion or possible electrocution.

(2) The pump to be used is a permissible Stancor MSHA-approved P series portable electric submersible pump (Product #P-70CE-HH). The pump is a 460VAC three-phase motor, FLC 39 amperes, 28Hp with two overload thermal switches incorporated in the stator and short circuit, locked rotor overload protection. The cable powering the pump will start in the hoist house branching from the 480VAC in the hoist house through a Fused Disconnect Switch with 60 ampere fuses. The fused Disconnect Switch will be connected to a Ground Check Enclosure mounted in the Hoist House to monitor the Grounding Conductor. Approximately 80 feet of #6 G-GC cable will be installed to power the permissible Stancor pump control box mounted at the Fan House. The pump control box will feed into the return airshaft with #6 G-GC cable for 444 feet to a permissible Disconnect Switch and from the permissible Disconnect Switch through #6 G-GC cable 40 feet to the 28Hp pump.

(3) The controller will be located on the side of the main fan house on the surface and will have a 45 ampere circuit breaker for short circuit protection and a Stancor model 821 liquid controller and motor protection unit for overload protection. The pump will be started and stopped from the Stancor model protection relay. There will be an electrical disconnect located underground at the pump location to aid in servicing the pump. The pump will be operated by the pump current control system.

(4) If mine power is down and fan off, the pump will run on a generator that is grounded with two 8-foot grounding rods attached with #4 bare copper. All persons will be kept 100 feet away from the slope entrance while the generator and pump are in operation. After power is restored, areas around the immediate bottom (sump pump and power centers) will be examined as required. The Sump Pump and power cable will be included as part of this examination. Weekly and monthly examinations will be conducted on the pump, controller, and generator as required.

The petitioner asserts that application of the existing standard will result in a diminution of safety to the miners.

Sheila McConnell,
Director, Office of Standards, Regulations, and Variances.

[FR Doc. 2016-27286 Filed 11-10-16; 8:45 am]

BILLING CODE 4520-43-P